DEPARTMENT OF COMMERCE

Foreign-Trade Zones Board

[Docket 29-2003]

Wacker Chemical Corporation—Application for Subzone Status; Amendment of Application and Extension of Comment Period

The application for subzone status at the Wacker Chemical Corporation in Adrian, Michigan, submitted by the Greater Detroit Foreign-Trade Zone, Inc. (68 FR 38009, 6/26/03), has been amended. The company has indicated that imported coloring matter and pigments (HTS 3204.12, 3204.17, 3204.19, 3206.19, 3206.20 and 3206.49) will be admitted to the zone in privileged foreign status.

The comment period for the case referenced above is being extended to September 25, 2003, to allow interested parties additional time in which to comment. Rebuttal comments may be submitted during the subsequent 15 day period, until October 10, 2003. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

Dated: August 19, 2003.
Dennis Puccinelli,
Executive Secretary.

[FR Doc. 03-21844 Filed 8-26-03; 8:45 am]

BILLING CODE 3510-DS-P